DEPARTMENT OF ENERGY

Federal Energy Regulatory Commission

[Docket No. RP99-355-002]

Baltimore Gas and Electric Company; Notice of Filing

May 18, 2000.

Take notice that on May 1, 2000, Baltimore Gas and Electric Company (BGE), and Columbia Gas Transmission Corporation (Columbia) separately filed reports to comply with a Commission order issued July 29, 1999, in Docket No. RP99-355-000. The filings report on the parties' efforts to develop an unbundling program with BGE that does not require waiver of the Commission's shipper must have title policy.

Any person desiring to protest this filing should file a protest with the Federal Energy Regulatory Commission, 888 First Street, NE, Washington, DC 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

Linwood A. Watson, Jr.,
Acting Secretary.

[FR Doc. 00-13011 Filed 5-23-00; 8:45 am]

BILLING CODE 6717-01-M